DEPARTMENT OF HEALTH AND HUMAN SERVICES

Office of the Secretary

Applications Available To Request Waiver of the Two-Year Foreign Residence Requirement for Physicians with J-1 Visa Who Will Deliver Health Care Service

ACTION: Notice of Availability of Applications.

SUMMARY: The HHS Exchange Visitor Program announces the availability of applications to request waiver of the two-year foreign residency requirement for physicians with J-1 visas who agree to deliver health care services for three years in primary care or mental health Professional Shortage Areas (HPSAs) or medically underserved areas or populations (MUA/Ps).

FOR FURTHER INFORMATION CONTACT: Michael Berry, Bureau of Health Professions, 5600 Fishers Lane, Rm. 8-67, Rockville, MD 20857. Telephone: 301-443-4154; Fax: 301-443-7904; MBerry@HRSA.gov.

ADDRESSES: Applications to request waivers to deliver health care services are available at http://www.globalhealth.gov and the Office of Global Health Affairs, 200 Independence Ave., SW., Room 639-H, Washington, DC 20201. Telephone: 202-690-6174; Fax: 202-690-7127.

SUPPLEMENTARY INFORMATION: On December 19, 2002, the Department of Health and Human Services (HHS) published in the Federal Register (67 FR 77692) an interim-final rule amending the regulations at 45 CFR part 50 governing the HHS Exchange Visitor Program. Under this program, HHS acts as an Interested Government Agency (IGA) to request waivers, on the Exchange Visitors' behalf, of the two-year foreign residency requirement. The amendments expanded the program to permit institutions and health care facilities to submit to HHS requests for waiver of the two-year home-country physical presence requirement for physician Exchange Visitors to deliver primary health care services in underserved areas, in addition to waivers to perform research.

In determining whether to request a waiver for an Exchange Visitor to deliver primary health care services, HHS will consider information from and coordinate with State Departments of Public Health (or the equivalent), other IGAs, HHS programs such as the National Health Service Corps, and other relevant government agencies.

HHS will process applications in the order received. Please note that HHS will not accept applications submitted by Exchange Visitors. Applications for waiver requests must be submitted by private or non-federal institutions, organizations, or agencies or by a component agency of HHS.

In brief, the criteria for a waiver recommendation by HHS acting as an IGA are as follows:

1. Eligibility to apply for HHS waiver requests is limited to primary care physicians, and general psychiatrists who have completed their primary care or psychiatric residency training programs. Primary care physicians are defined as: physicians practicing general internal medicine, pediatrics, family practice or obstetrics/gynecology and who are willing to work in a primary care HPSA or MUA/P; and general psychiatrists willing to work in a Mental Health HPSA.

Note: The regulations restrict eligibility to primary care physicians, and general psychiatrists who have completed their primary care or psychiatric residency training programs no more than 12 months before the date of commencement of employment under the contract described below. 45 CFR 50.5(b). For applications submitted prior to October 1, 2003, HHS will ease this12-month eligibility condition to enable physicians who completed their training programs in June 2002 to be eligible to apply for a waiver. Without this modification, physicians who completed their training programs in June 2002 would be unable to begin employment by the required date, July 2003, and thus would be ineligible to seek waivers. Accordingly, for applications received prior to October 1, 2003, the physician seeking a waiver must have completed a primary care or general psychiatric residency no earlier than June 1, 2002.

2. The petitioning health care facility must establish that it has recruited actively and in good faith for U.S. physicians in the recent past, but has been unable to recruit a qualified U.S. physician.

3. The head of a petitioning health care facility must execute a statement to confirm that the facility is located in a specific, designated HPSA or MUA/P, and that it provides medical care to Medicaid and Medicare eligible patients and the uninsured indigent.

4. The Exchange Visitor must execute a statement that he or she does not have pending, and will not submit, other IGA waiver requests while HHS processes the waiver request.

5. The employment contract must require the Exchange Visitor to practice a specific primary care discipline or general psychiatry for a minimum of three years, 40 hours per week in a specified HPSA or MUA/P. It may not include a non-compete clause that limits the Exchange Visitor's ability to continue to practice in any HHS-designated primary care or mental health HPSA or MUA/P after the period of obligation. The contract must be terminable only for cause and not terminable by mutual agreement until completion of the three-year commitment, except that the contract may be assigned to another eligible employer, subject to approval by HHS and consistent with all applicable INS and Department of Labor requirements.

Dated: June 5, 2003.
William R. Steiger,
Director, Office of Global Health Affairs.

[FR Doc. 03-14882 Filed 6-11-03; 8:45 am]

BILLING CODE 4165-15-P